COMMISSION ON OCEAN POLICY

Public Meeting

AGENCY: U.S. Commission on Ocean Policy.

ACTION: Notice.

SUMMARY: The U.S. Commission on Ocean Policy will hold its second regional meeting, the Commission's fourth public meeting, to hear and discuss coastal and ocean issues of concern to the Florida and Caribbean region.

DATES: The public meeting will be held Friday, February 22, 2002 from 8 a.m. to 6:30 p.m.

ADDRESSES: The meeting location is the Florida Marine Research Institute, Florida Fish and Wildlife Conservation Commission, First Floor Auditorium, 100 Eighth Avenue, SE, St. Petersburg, FL, 33701.

FOR FURTHER INFORMATION CONTACT: Terry Schaff, U.S. Commission on Ocean Policy, 1120 20th Street, NW, Washington, DC 20036, 202-418-3442, tschaff@nsf.gov.

SUPPLEMENTARY INFORMATION: This meeting is being held pursuant to requirements under the Oceans Act of 2000 (Pub. L. 106-256, section 3(e)(1)(E)). The agenda will include presentations by invited speakers representing local and regional government agencies and non-governmental organizations, comments from the public and any required administrative discussions and executive sessions. Invited speakers and members of the public are requested to submit their statements for the record electronically by February 13, 2002 to the meeting Point of Contact. Additional meeting information, including a draft agenda, will be posted as available on the Commission's Web site at http://www.oceancommission.gov.

Dated: January 24, 2002.
Thomas R. Kitsos,
Executive Director, U.S. Commission on Ocean Policy.

[FR Doc. 02-2194 Filed 1-29-02; 8:45 am]

BILLING CODE 6820-WM-P